DEPARTMENT OF HOMELAND SECURITY

Coast Guard

[Docket No. USCG-2019-0032]

Prince William Sound Regional Citizens' Advisory Council Recertification

AGENCY: Coast Guard, DHS.

ACTION: Notice of recertification.

SUMMARY: This notice informs the public that the Coast Guard has recertified the Prince William Sound Regional Citizens' Advisory Council (PWSRCAC) as an alternative voluntary advisory group for Prince William Sound, Alaska. This certification allows the PWSRCAC to monitor the activities of terminal facilities and crude oil tankers under an alternative composition, other than prescribed, Prince William Sound Program established by statute.

DATES: This recertification is effective for the period from February 28, 2019 through March 1, 2020.

FOR FURTHER INFORMATION CONTACT: LT Ian McPhillips, Seventeenth Coast Guard District (dpi), by phone at (907)463-2809, email at Ian.P.McPhillips@uscg.mil.

SUPPLEMENTARY INFORMATION:

Background and Purpose

As part of the Oil Pollution Act of 1990 (OPA 90), Congress passed the Oil Terminal and Oil Tanker Environmental Oversight and Monitoring Act of 1990 (the Act), 33 U.S.C. 2732, to foster a long-term partnership among industry, government, and local communities in overseeing compliance with environmental concerns in the operation of crude oil terminals and oil tankers.

The President has delegated his authority under 33 U.S.C 2732(o) respecting certification of advisory councils, or groups, subject to the Act to the Secretary of the Department of Homeland Security. Section 8(g) of Executive Order 12777, (56 FR 54757, October 22, 1991), as amended by section 34 of Executive Order 13286 (68 FR 10619, March 5, 2003). The Secretary redelegated that authority to the Commandant of the USCG. Department of Homeland Security Delegation No. 0170.1, paragraph 80 of section II. The Commandant redelegated that authority to the Chief, Office of Marine Safety, Security and Environmental Protection (G-M) on March 19, 1992 (letter #5402).

The Assistant Commandant for Marine Safety and Environmental Protection (G-M), redelegated recertification authority for advisory councils, or groups, to the Commander, Seventeenth Coast Guard District on February 26, 1999 (letter #16450).

On July 7, 1993, the USCG published a policy statement, “Alternative Voluntary Advisory Groups, Prince William Sound and Cook Inlet” (58 FR 36504), to clarify the factors considered in making the determination as to whether advisory councils, or groups, should be certified in accordance with the Act.

On September 16, 2002, the USCG published a policy statement, 67 FR 58440, which changed the recertification procedures such that applicants are required to provide the USCG with comprehensive information every three years (triennially). For each of the two years between the triennial application procedures, applicants submit a letter requesting recertification that includes a description of any substantive changes to the information provided at the previous triennial recertification. Further, public comment is only solicited during the triennial comprehensive review.

The Alyeska Pipeline Service Company pays the PWSRCAC $3.6 million annually in the form of a long-term contract. In return for this funding, the PWSRCAC must annually show that it “fosters the goals and purposes” of OPA 90 and is “broadly representative of the communities and interests in the vicinity of the terminal facilities and Prince William Sound.” The PWSRCAC is an independent, nonprofit organization founded in 1989. Though it receives federal oversight like many independent, non-profit organizations, it is not a federal agency. The PWSRCAC is a local organization that predates the passage of OPA 90. The existence of the PWSRCAC was specifically recognized in OPA 90 where it is defined as an “alternate voluntary advisory group.”

Alyeska funds the PWSRCAC, and the Coast Guard makes sure the PWSRCRC operates in a fashion that is broadly consistent with OPA 90.

Recertification

By letter dated Feb 04 2019, the Commander, Seventeenth Coast Guard District, certified that the PWSRCAC qualifies as an alternative voluntary advisory group under 33 U.S.C. 2732(o). This recertification terminates on March 1, 2020.

Matthew T. Bell Jr.,
Rear Admiral, U.S. Coast Guard, Commander, Seventeenth Coast Guard District.

[FR Doc. 2019-04876 Filed 3-14-19; 8:45 am]

BILLING CODE 9110-04-P